FEDERAL HOUSING FINANCE BOARD

12 CFR Part 910

[No. 2000-19]

RIN 3069-AB02

Amendments to the Freedom of Information Act Regulation

AGENCY: Federal Housing Finance Board.

ACTION: Final rule.

SUMMARY: The Federal Housing Finance Board (Finance Board) is amending its Freedom of Information Act (FOIA) regulation to reflect an agency reorganization. Responsibility for administering the Finance Board's FOIA program has been transferred from the Executive Secretariat to the Office of General Counsel and the Deputy General Counsel of the Administrative Law Division has replaced the Secretary to the Board of Directors as the Finance Board's FOIA officer.

EFFECTIVE DATE: The final rule will become effective on April 17, 2000.

FOR FURTHER INFORMATION CONTACT: Janice A. Kaye, Attorney-Advisor, Office of General Counsel, by telephone at 202/408-2505, by electronic mail at kayej@fhfb.gov, or by regular mail at the Federal Housing Finance Board, 1777 F Street, N.W., Washington, D.C. 20006.

SUPPLEMENTARY INFORMATION: As a result of an agency reorganization, responsibility for administering the Finance Board's FOIA program was transferred from the Executive Secretariat to the Office of General Counsel effective March 20, 2000. As part of the transfer of responsibility, the Deputy General Counsel of the Administrative Law Division has replaced the Secretary to the Board of Directors as the Finance Board's FOIA officer. The FOIA officer is authorized to make all initial denial determinations under the Finance Board's FOIA regulation. The Finance Board is amending its FOIA regulation to conform to the reassignment of responsibility and authority. More specifically, the Finance Board is replacing the term “Secretary to the Board” and the term “Finance Board” with the term “FOIA Officer” where appropriate.

Notice and Public Participation

Because it is in the public interest to conform the Finance Board's FOIA regulation to the agency reorganization that already has taken effect, the Finance Board for good cause finds that the notice and publication requirements of the Administrative Procedures Act are unnecessary. See 5 U.S.C. 553(b)(3)(B). Accordingly, the Finance Board is promulgating these technical, procedural changes as a final rule.

Effective Date

For the reasons stated in part III above, the Finance Board for good cause finds that the final rule should become effective on April 17, 2000. See 5 U.S.C. 553(d)(3).

Regulatory Flexibility Act

The Finance Board is adopting the amendments to part 910 in the form of a final rule and not as a proposed rule. Therefore, the provisions of the Regulatory Flexibility Act do not apply. See 5 U.S.C. 601(2), 603(a).

Paperwork Reduction Act

The final rule does not contain any collections of information pursuant to the Paperwork Reduction Act of 1995. See 44 U.S.C. 3501 et seq. Consequently, the Finance Board has not submitted any information to the Office of Management and Budget for review.

List of Subjects in Part 910

Confidential business information, Federal home loan banks, Freedom of information.

For the reasons stated in the preamble, the Finance Board hereby amends 12 CFR part 910 as follows:

PART 910—FREEDOM OF INFORMATION ACT REGULATION

1. The authority citation for part 910 continues to read as follows:

Authority: 5 U.S.C. 552; 52 FR 10012 (Mar. 27, 1987).

2. In part 910, remove the term “Secretary to the Board” everywhere it appears and add in its place the term “FOIA Officer.”

3. In § 910.1, remove the definition of the term “Secretary to the Board” and add a definition of the term “FOIA Officer” to read as follows:

§ 910.1 Definitions.

* * * * *

FOIA Officer means the Finance Board employee who is authorized to make determinations as provided in this part. The mailing address for the FOIA Officer is Federal Housing Finance Board, 1777 F Street, NW, Washington, DC 20006.

* * * * *

4. Revise § 910.3(b) to read as follows:

§ 910.3 Requests for records.

* * * * *

(b) Incomplete requests. If a request does not meet all of the requirements of paragraph (a) of this section, the FOIA Officer may advise the requester that additional information is needed. If the requester submits a corrected request, the FOIA Officer shall treat the corrected request as a new request.

5. Amend § 910.4 by revising paragraph (c)(3), the first sentence of paragraph (d)(1), and paragraph (e) to read as follows:

§ 910.4 Finance Board response to requests for records.

* * * * *

(c) * * *

(3) The opportunity for the requester to either limit the scope of the request so that the FOIA Officer may process it in accordance with paragraph (a) of this section, or arrange an alternative time frame for processing the request or a modified request.

(d) Expedited processing. (1) The FOIA Officer shall process a request for records as soon as practicable if it is determined that expedited processing is appropriate or the requester demonstrates a compelling need. * * *

* * * * *

(e) Providing responsive records. The FOIA Officer shall provide one copy of a record to a requester in any form or format requested if the record is readily reproducible by the Finance Board in that form or format by regular U.S. mail to the address indicated in the request unless other arrangements are made, such as taking delivery of the document at the Finance Board. At the option of the requester and upon the requester's agreement to pay fees in accordance with § 910.9, the FOIA Officer shall provide copies by facsimile transmission or other express delivery methods.

6. Revise § 910.7 to read as follows:

§ 910.7 Records of financial regulatory agencies held by the Finance Board.

The Finance Board shall not disclose an examination, operating, or condition report, or other record prepared by, on behalf of, or for the use of a financial regulatory agency. Upon a receipt of a request for such records, the FOIA Officer shall promptly refer the request to the appropriate agency and notify the requester of the referral.

7. Amend § 910.8 by revising paragraph (a)(1) to read as follows:

§ 910.8 Appeals.

(a) Procedure. (1) If the FOIA Officer has denied a request in whole or in part, the requester may appeal the denial by submitting a written application to the FOIA Officer stating the grounds for the appeal within 30 working days of the date of the determination under § 910.4.

* * * * *

8. Amend § 910.9 by revising paragraph (c), paragraph (d) introductory text, paragraph (d)(3)(ii) introductory text, paragraph (e), paragraphs (f)(3) through (f)(5), and paragraph (g) introductory text to read as follows:

§ 910.9 Fees.

* * * * *

(c) Interest. The Finance Board may assess interest at the rate prescribed in 31 U.S.C. 3717 on any unpaid fees beginning 31 days after the earlier of the date of the determination under § 910.4 or the date a fee statement is mailed to a requester. Interest shall accrue from such date.

(d) Exceptions. Notwithstanding paragraphs (a) or (b) of this section, the FOIA Officer may determine not to assess a fee or to reduce a fee if:

(3) * * *

(ii) In determining whether disclosure of a record is in the public interest, the FOIA Officer shall consider whether the record:

* * * * *

(e) Aggregating requests. If the FOIA Officer reasonably believes that a requester or a group of requesters acting in concert is attempting to break a request down into a series of requests for the purpose of evading the assessment of fees, the FOIA Officer may aggregate such requests and assess fees in accordance with this section.

(f) Collecting fees. * * *

(3) Prior to disclosing any record, the FOIA Officer may require a requester to agree in writing to pay actual fees and interest incurred in accordance with this section if the estimated fee will likely exceed $25 but not $250.

(4) The FOIA Officer may require a requester to pay an estimated fee in advance if:

(i) It is determined that the fee will likely exceed $250; or

(ii) The requester has previously failed to pay a fee assessed under this section within 30 days of the earlier of the date of the determination under § 910.4 or the date a fee statement was mailed to a requester.

(5) The Finance Board shall promptly refund to a requester any estimated advance fee paid under paragraph (f)(4) of this section that exceeds the actual fee. The FOIA Officer shall assess the requester for the amount by which the actual fee exceeds the estimated advance fee payment.

(g) Fee schedule. The FOIA Officer shall assess fees in accordance with the following schedule:

* * * * *

Dated: April 6, 2000.
By the Board of Directors of the Federal Housing Finance Board.
Bruce A. Morrison,
Chairman.

[FR Doc. 00-9454 Filed 4-14-00; 8:45 am]

BILLING CODE 6725-01-P